DEPARTMENT OF COMMERCE

National Oceanic and Atmospheric Administration

[RTID 0648-XB053]

Endangered Species; File Nos. 21467 and 22822

AGENCY: National Marine Fisheries Service (NMFS), National Oceanic and Atmospheric Administration (NOAA), Commerce.

ACTION: Notice; receipt of applications for permit modifications.

SUMMARY: Notice is hereby given that two applicants have requested permit modifications to take green (Chelonia mydas), hawksbill (Eretmochelys imbricata), Kemp's ridley (Lepidochelys kempii), and loggerhead (Caretta caretta) sea turtles for purposes of scientific research.

DATES: Written, telefaxed, or email comments must be received on or before June 14, 2021.

ADDRESSES: The modification requests and related documents are available for review by selecting “Records Open for Public Comment” from the Features box on the Applications and Permits for Protected Species (APPS) home page, https://apps.nmfs.noaa.gov, and then selecting the applicable File No. from the list of available applications. These documents are also available upon written request via email to NMFS.Pr1Comments@noaa.gov.

Written comments on this application should be submitted via email to NMFS.Pr1Comments@noaa.gov. Please include File No. in the subject line of the email comment.

Those individuals requesting a public hearing should submit a written request via email to NMFS.Pr1Comments@noaa.gov. The request should set forth the specific reasons why a hearing on this application would be appropriate.

FOR FURTHER INFORMATION CONTACT: Erin Markin, Amy Hapeman, or Jordan Rutland, (301) 427-8401.

SUPPLEMENTARY INFORMATION: The subject permit modifications are requested under the authority of the Endangered Species Act of 1973, as amended (16 U.S.C. 1531 et seq.) and the regulations governing the taking, importing, and exporting of endangered and threatened species (50 CFR parts 222-226).

File No. 21467-03: Karen Holloway-Adkins, Ph.D., East Coast Biologists, Inc., P.O. Box 33715, Indialantic, FL 32903, proposes to modify Permit No. 21647-02. Permit No. 21467 was originally issued on May 10, 2018 (83 FR 27545; June 13, 2018). A minor modification to the permit was issued on March 8, 2021 (Permit No. 21467-01). The permit authorizes the permit holder to determine (1) spatial and temporal distribution, (2) mean size, (3) foraging habitats and diet composition, (4) body conditions and fibropapillomatosis ratios, (5) genetic origin, and (6) home-range, site fidelity, and residency times of green and loggerhead sea turtles in Brevard County, Florida. Researchers may capture by tangle, cast or dip net or hand, measure, mark, biologically sample, tag, weigh, and photograph sea turtles prior to release. The permit holder requests authorization to (1) increase the number of loggerhead sea turtles from 6 to 10 individuals annually for the authorized methods listed above and (2) add another 10 loggerhead sea turtles annually for capture, tagging (PIT, flipper), biological sampling, measuring, weighing, and photographing prior to release. The permit is valid through September 30, 2027.

File No. 22822-04: Pamela Plotkin, Ph.D., Texas Sea Grant, Texas A&M University, 797 Lamar Street, 4115 TAMU, College Station, TX 77843, proposes to modify Permit No. 22822-01. Permit No. 22822 was originally issued on September 26, 2019 (84 FR 54121; October 9, 2019). A minor modification to the permit was issued on January 21, 2020 (Permit No. 22822-01). The permit authorizes the permit holder to determine the spatiotemporal distribution of green, hawksbill, Kemp's ridley, and loggerhead sea turtles in Matagorda Bay, Texas. Researchers may capture by tangle net, biologically sample, tag, mark, measure, weigh, and photograph/video sea turtles prior to release. The permit holder requests authorization to (1) increase the number of green sea turtles from 10 to 20 individuals annually for the authorized methods listed above and (2) add another 8 green sea turtles annually for capture, flipper tagging, biological sampling, measuring, weighing, and photographing prior to release. The permit is valid through December 31, 2021.

Dated: May 6, 2021.
Julia Marie Harrison,
Chief, Permits and Conservation Division, Office of Protected Resources, National Marine Fisheries Service.

[FR Doc. 2021-10092 Filed 5-12-21; 8:45 am]

BILLING CODE 3510-22-P